DEPARTMENT OF JUSTICE

Republication of Notice of Lodging of Proposed Consent Decree Under the Clean Air Act

Under 28 CFR 50.7 notice is hereby given that on September 27, 2001, a proposed Consent Decree (“Consent Decree”) in United States of America v. Knauf Fiber Glass GmbH, Civil Cause No.: IP-01-1445-CV-B/S was lodged with the United States District Court for the Southern District of Indiana, Indianapolis Division.

Notice of the lodging of this Amended Consent Decree was first published by the Department of Justice in the Federal Register of October 15, 2001 (66 FR 52449-52450). The Department of Justice is republishing the Notice of Lodging because mail delivery problems associated with anthrax mailings to government offices have precluded the Department of Justice's receipt of public comments. To avoid additional delays related to such problems, the Department of Justice is requesting that any comments that were submitted under the original Notice of Lodging be resubmitted, this time to the U.S. Environmental Protection Agency, which will forward the comments to the Department of Justice. In this action the United States sought enforcement of the Clean Air Act and the State Implementation Plan (“Indiana SIP”), duly promulgated by the State of Indiana, for emission violations at the Knauf fiber glass manufacturing facilities located in Shelbyville, Indiana. The proposed Consent Decree resolves claims of the United States concerning Knauf's past violations of the emission standards, as established in the Indiana SIP, and the Clean Air Act, 42 U.S.C. 7413(b), including, inter alia, emissions of particulate matter from the Line 205 furnace stack at the Shelbyville facility. Pursuant to the proposed Consent Decree, Knauf Fiber Glass GmbH will, among other requirements, develop and implement a Supplemental Environmental Project (“SEP”) providing for the installation and operation of equipment (approximately one year earlier than would otherwise be required by EPA regulations) that will decrease particulate matter, carbon monoxide, and NOX emissions. Also, under the proposed Consent Decree, Knauf Fiber Glass GmbH will pay $70,000 in civil penalties for violations of the Indiana SIP and the Clean Air Act.

The Department of Justice will receive for a period of thirty (30) days from the date of this publication comments relating to the proposed Consent Decree. Comments should be addressed to the U.S. Environmental Protection Agency, Region 5, 14th Floor, 77 West Jackson Boulevard, Chicago, Illinois 60604-3590 (Attn: Assistant Regional Counsel Padmavati Klejwa), and should refer to United States v. Knauf Fiber Glass GmbH, Civil Cause No. IP-01-1445-CV-B/S, D.J. Ref. 90-5-2-1-06368.

The proposed Consent Decree may be examined at the Office of the United States Attorney, 10 West Market Street, Suite 2100, Indianapolis, Indiana 46204-3048 (contact Assistant United States Attorney Thomas Kieper at (317) 229-2400), and at U.S. EPA Region 5, 14th Floor, 77 West Jackson Boulevard, Chicago, Illinois 60604-3590 (contact Assistant Regional Counsel Padmavati Klejwa at (312) 353-8917).

A copy of the proposed Consent Decree may also be obtained by mail from the Consent Decree Library, P.O. Box 7611, U.S. Department of Justice, Washington, DC 20044-7611. In requesting a copy, please enclose a check in the amount of $5.75 ($.25 cents per page reproduction cost) payable to the Consent Decree Library.

William D. Brighton,
Assistant Chief, Environmental Enforcement Section, Environment and Natural Resources Division.

[FR Doc. 02-1153 Filed 1-15-02; 8:45 am]

BILLING CODE 4410-15-M